DEPARTMENT OF TRANSPORTATION

Federal Highway Administration

23 CFR Part 655

[FHWA Docket No. FHWA-2005-23182]

RIN 2125-AF16

Traffic Control Devices on Federal-Aid and Other Streets and Highways; Standards

AGENCY: Federal Highway Administration (FHWA), DOT.

ACTION: Notice of proposed rulemaking; extension of comment period.

SUMMARY: The FHWA is extending the comment period for a notice of proposed rulemaking (NPRM) and request for comments, which was published on April 25, 2006, at 71 FR 23877. The original comment period is set to close on June 26, 2006. The extension is based on concern expressed by the National Committee on Uniform Traffic Control Devices (NCUTCD) that the June 26 closing date does not provide sufficient time for discussion of the issues in committee and a subsequent comprehensive response to the docket. The FHWA recognizes that others interested in commenting may have similar time constraints and agrees that the comment period should be extended. Therefore, the closing date for comments is changed to July 21, 2006, which will provide the NCUTCD and others interested in commenting additional time to discuss, evaluate, and submit responses to the docket.

DATES: Comments must be received on or before July 21, 2006.

ADDRESSES: Mail or hand deliver comments to the U.S. Department of Transportation, Dockets Management Facility, Room PL-401, 400 Seventh Street, SW., Washington, DC 20590, or submit electronically at http://dmses.dot.gov/submit or fax comments to (202) 493-2251. All comments should include the docket number that appears in the heading of this document. All comments received will be available for examination at the above address from 9 a.m. to 5 p.m., e.t., Monday through Friday, except Federal holidays. Those desiring notification of receipt of comments must include a self-addressed, stamped postcard or print the acknowledgement page that appears after submitting comments electronically. Anyone is able to search the electronic form of all comments in any one of our dockets by the name of the individual submitting the comment (or signing the comment, if submitted on behalf of an association, business, or labor union). You may review DOT's complete Privacy Act Statement in the Federal Register published on April 11, 2000 (Volume 65, Number 70, Pages 19477-78) or you may visit http://dms.dot.gov.

FOR FURTHER INFORMATION CONTACT: Ms. Linda Brown, Office of Transportation Operations, (202) 366-2192; or Mr. Raymond W. Cuprill, Office of the Chief Counsel, (202) 366-0791, U.S. Department of Transportation, Federal Highway Administration, 400 Seventh Street, SW., Washington, DC 20590. Office hours are from 7:45 a.m. to 4:15 p.m., e.t., Monday through Friday, except Federal holidays.

SUPPLEMENTARY INFORMATION:

Electronic Access and Filing

You may submit or retrieve comments online through the Document Management System (DMS) at: http://dmses.dot.gov/submit. Electronic submission and retrieval help and guidelines are available under the help section of the Web site. Alternatively, internet users may access all comments received by the DOT Docket Facility by using the universal resource locator (URL) http://dms.dot.gov. It is available 24 hours each day, 365 days each year. Please follow the instructions. An electronic copy of this document may also be downloaded by accessing the Office of the Federal Register's home page at: http://www.archives.gov or the Government Printing Office's Web page at: http://www.gpoaccess.gov/nara.

Background

On April 25, 2006, the FHWA published in the Federal Register a notice of proposed rulemaking proposing changes to 23 CFR 655, the regulations for traffic control devices on Federal-aid and other streets and highways. The NPRM proposed, along with other administrative changes, to update these regulations by deleting references to obsolete reference materials; clarifying the phrase “open to public travel” by providing examples of roads and other facilities meant to be covered by the regulations; clarifying that “substantial conformance” with the National MUTCD, as required under the regulations, means that the State MUTCD or supplement shall conform as a minimum to the standard statements included in the National MUTCD unless a variation is approved by the FHWA Division Administrator or FHWA Associate Administrator of the Federal Lands Highway Program; and, allowing States to adopt the National MUTCD within two years from the effective date of the final rule making such changes, rather than the issuance date of the final rule.

The original comment period for the NPRM closes on June 26, 2006. The NCUTCD has expressed concern that this closing date does not provide sufficient time to review and discuss the proposed changes; and then, develop and submit complete responses to the docket. To allow time for this organization and others to submit comprehensive comments, the closing date is changed from June 26, 2006, to July 21, 2006.

Authority: 23 U.S.C. 101(a), 104, 109(d), 114(a), 217, 315, and 402(a); 23 CFR 1.32 and 49 CFR 1.48(b).

Issued on: June 7, 2006.
Frederick G. Wright, Jr.,
Federal Highway Executive Director.

[FR Doc. E6-9243 Filed 6-13-06; 8:45 am]

BILLING CODE 4910-22-P